DEPARTMENT OF EDUCATION

Office of Safe and Drug-Free Schools; Overview Information, Carol M. White Physical Education Program; Notice Inviting Applications for New Awards for Fiscal Year (FY) 2006

Catalog of Federal Domestic Assistance (CFDA) Number: 84.215F.

Dates:

Applications Available: March 1, 2006.

Deadline for Transmittal of Applications: April 12, 2006.

Deadline for Intergovernmental Review: June 12, 2006.

Eligible Applicants: Local educational agencies (LEAs) and community-based organizations (CBOs), including faith-based organizations provided that they meet the applicable statutory and regulatory requirements.

Estimated Available Funds: $17,400,000. Contingent upon the availability of funds, we may make additional awards in FY 2007 from the list of unfunded applicants from this competition.

Estimated Range of Awards: $100,000-$500,000.

Estimated Average Size of Awards: $300,000.

Estimated Number of Awards: 58.

Note: The Department is not bound by any estimates in this notice.

Project Period: Up to 36 months.

Full Text of Announcement

I. Funding Opportunity Description

Purpose of the Program: The Carol M. White Physical Education Program (PEP) provides grants to local educational agencies and community-based organizations to initiate, expand, or enhance physical education programs, including after-school programs, for students in kindergarten through 12th grade. Grant recipients must implement programs that help students make progress toward meeting State standards.

Priorities: This competition includes one absolute priority and one competitive preference priority. These priorities are as follows:

Absolute Priority: In accordance with 34 CFR 75.105(b)(2)(iv), the following priority is from sections 5503 and 5504(a) of the Elementary and Secondary Education Act of 1965, as amended by the No Child Left Behind Act of 2001 (ESEA). (20 U.S.C. 7261b, 7261c) For FY 2006, and any year in which we make awards based on the list of unfunded applicants from this competition, this priority is an absolute priority. Under 34 CFR 75.105(c)(3), we consider only applications that meet this priority.

This priority is: The initiation, expansion, and improvement of physical education programs (including after-school programs) in order to make progress toward meeting State standards for physical education for kindergarten through 12th grade students by (1) providing equipment and support to enable students to participate actively in physical education activities; and (2) providing funds for staff and teacher training and education.

A physical education program funded under this absolute priority must provide for one or more of the following:

(1) Fitness education and assessment to help students understand, improve, or maintain their physical well-being.

(2) Instruction in a variety of motor skills and physical activities designed to enhance the physical, mental, and social or emotional development of every student.

(3) Development of, and instruction in, cognitive concepts about motor skills and physical fitness that support a lifelong healthy lifestyle.

(4) Opportunities to develop positive social and cooperative skills through physical activity participation.

(5) Instruction in healthy eating habits and good nutrition.

(6) Opportunities for professional development for teachers of physical education to stay abreast of the latest research, issues, and trends in the field of physical education.

Competitive Preference Priority: Within this absolute priority, we give competitive preference to applications that address the following priority. This priority is from 34 CFR 75.225. For FY 2006, and any subsequent year in which we make awards based on the list of unfunded applicants from this competition, this priority is a competitive preference priority. Under 34 CFR 75.105(c)(2)(ii), we award an additional five points to an application that meets this priority.

This priority is for applications from novice applicants.

The term novice applicant means any applicant for a grant from the U.S. Department of Education that—

(1) Has never received a grant or subgrant under the program from which it seeks funding;

(2) Has never been a member of a group application, submitted in accordance with 34 CFR 75.127 through 75.129, that received a grant under the program from which it seeks funding; and

(3) Has not had an active discretionary grant from the Federal Government in the five years before the deadline date for applications under this program (PEP) or its predecessor program (the Physical Education for Progress Program). For the purposes of this requirement, a grant is active until the end of the grant's project or funding period, including any extensions of those periods that extend the grantee's authority to obligate funds.

In the case of a group application submitted in accordance with 34 CFR 75.127 through 75.129, all group members must meet the requirements described in this priority to qualify as a novice applicant.

Program Authority: 20 U.S.C. 7261-7261f.

Applicable Regulations: The Education Department General Administrative Regulations (EDGAR) in 34 CFR parts 74, 75, 77, 79, 80, 81, 82, 84, 85, 86, 97, 98, and 99.

Note: The regulations in 34 CFR part 86 apply to institutions of higher education only.

II. Award Information

Type of Award: Discretionary grants.

Estimated Available Funds: $17,400,000. Contingent upon the availability of funds, we may make additional awards in FY 2007 from the list of unfunded applicants from this competition.

Estimated Range of Awards: $100,000—$500,000.

Estimated Average Size of Awards: $300,000.

Estimated Number of Awards: 58.

Note: The Department is not bound by any estimates in this notice.

Project Period: Up to 36 months.

III. Eligibility Information

1. Eligible Applicants: LEAs and CBOs, including faith-based organizations provided that they meet the applicable statutory and regulatory requirements.

2. Cost Sharing or Matching: In accordance with Section 5506 of the ESEA, the Federal share of the project costs may not exceed (a) 90 percent of the total cost of a program for the first year for which the program receives assistance; and (b) 75 percent of such cost for the second and each subsequent year. In addition, in accordance with Section 5507 of the ESEA, funds made available under this program must be used to supplement, and not supplant, any other Federal, State, or local funds available for physical education activities.

3. Other: An application for funds under this program may provide for the participation, in the activities funded, of (a) students enrolled in private nonprofit elementary schools or secondary schools, and their parents and teachers; or (b) home-schooled students, and their parents and teachers.

IV. Application and Submission Information

1. Address to Request Application Package: You may obtain an application via the Internet or from the ED Publications Center (ED Pubs). To obtain a copy via the Internet use the following address: http://www.ed.gov/programs/whitephysed/index.html. To obtain a copy from ED Pubs, write or call the following: Education Publications Center, P.O. Box 1398, Jessup, MD 20794-1398. Telephone (toll free): 1-877-433-7827. Fax: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA Number 84.215F.

Individuals with disabilities may obtain a copy of the application package in an alternative format (e.g. Braille, large print, audiotape, or computer diskette) by contacting the program contact persons listed under FOR FURTHER INFORMATION CONTACT in section VII of this notice.

2. Content and Form of Application Submission: Each LEA or CBO desiring a grant under this program shall submit an application that contains a plan to initiate, expand, or improve a physical education program in order to make progress toward meeting State standards for physical education. Additional requirements concerning the content of an application, together with the forms you must submit, are in the application package for this competition.

3. Submission Dates and Times:

Applications Available: March 1, 2006.

Deadline for Transmittal of Applications: April 12, 2006. Applications for grants under this program (PEP) may be submitted electronically using the Electronic Grant Application System (e-Application) accessible through the Department's e-Grants system, or in paper format by mail or hand delivery. For information (including dates and times) about how to submit your application electronically, or by mail or hand delivery, please refer to section IV. 6. Other Submission Requirements in this notice.

We do not consider an application that does not comply with the deadline requirements.

Deadline for Intergovernmental Review: June 12, 2006.

4. Intergovernmental Review: This competition is subject to Executive Order 12372 and the regulations in 34 CFR part 79. Information about Intergovernmental Review of Federal Programs under Executive Order 12372 is in the application package for this competition.

5. Funding Restrictions: Funds may not be used for construction activities or for extracurricular activities, such as team sports and Reserve Officers' Training Corps program activities.

Not more than five percent of grant funds provided to an LEA or CBO for any fiscal year may be used for administrative expenses.

We reference additional regulations outlining funding restrictions in the Applicable Regulations section of this notice. Information about prohibited activities and use of funds also is included in the application package for this competition.

6. Other Submission Requirements: Applications for grants under this competition may be submitted electronically or in paper format by mail or hand delivery.

a. Electronic Submission of Applications. If you choose to submit your application to us electronically, you must use e-Application available through the Department's e-Grants system accessible through the e-Grants portal page: http://e-grants.ed.gov.

While completing your electronic application, you will be entering data online that will be saved into a database. You may not email an electronic copy of an application to us.

Please note the following:

• Your participation in e-Application is voluntary.

• You must complete the electronic submission of your grant application by 4:30 p.m., Washington, DC time, on the application deadline date. The e-Application system will not accept an application for this competition after 4:30 p.m., Washington, DC time, on the application deadline date. Therefore, we strongly recommend that you do not wait until the application deadline date to begin the application process.

• The regular hours of operation of the e-Grants Web site are 6 a.m. Monday until 7 p.m. Wednesday; and 6 a.m. Thursday until midnight Saturday, Washington, DC time. Please note that the system is unavailable on Sundays, and between 7 p.m. on Wednesdays and 6 a.m. on Thursdays, Washington, DC time, for maintenance. Any modifications to these hours are posted on the e-Grants Web site.

• You will not receive additional point value because you submit your application in electronic format, nor will we penalize you if you submit your application in paper format.

• You must submit all documents electronically, including the Application for Federal Education Assistance (ED 424), Budget Information—Non-Construction Programs (ED 524), and all necessary assurances and certifications. If you choose to submit your application electronically, you must attach any narrative sections of your application as files in a .DOC (document), .RTF (rich text) or .PDF (portable document) format. If you upload a file type other than the three file types specified above or submit a password protected file, we will not review that material.

• Your electronic application must comply with any page limit requirements described in this notice.

• Prior to submitting your electronic application, you may wish to print a copy of it for your records.

• After you electronically submit your application, you will receive an automatic acknowledgement that will include a PR/Award number (an identifying number unique to your application).

• Within three working days after submitting your electronic application, fax a signed copy of the ED 424 to the Department after following these steps:

(1) Print the ED 424 from e-Application.

(2) The applicant's Authorizing Representative must sign this form.

(3) Place the PR/Award number in the upper right hand corner of the hard-copy signature page of the ED 424.

(4) Fax the signed ED 424 to the Office of Safe and Drug-Free Schools at(202) 205-5722.

• We may request that you give us original signatures on other forms at a later date.

Application Deadline Date Extension in Case of System Unavailability: If you are prevented from electronically submitting your application on the application deadline date because the e-Application system is unavailable, we will grant you an extension of one business day in order to transmit your application electronically, by mail, or by hand delivery. We will grant this extension if—

(1) You are a registered user of e-Application and you have initiated an electronic application for this competition; and

(2) (a) The e-Application system is unavailable for 60 minutes or more between the hours of 8:30 a.m. and 3:30 p.m., Washington, DC time, on the application deadline date; or

(b) The e-Application system is unavailable for any period of time between 3:30 p.m. and 4:30 p.m., Washington, DC time, on the application deadline date.

We must acknowledge and confirm these periods of unavailability before granting you an extension. To request this extension or to confirm our acknowledgement of any system unavailability, you may contact either (1) the person listed elsewhere in this notice under FOR FURTHER INFORMATION CONTACT (see VII. Agency Contact) or (2) the e-Grants help desk at 1-888-336-8930. If the system is down and therefore the application deadline is extended, an e-mail will be sent to all registered users who have initiated an e-Application.

Extensions referred to this section apply only to the unavailability of the Department's e-Application system. If the e-Application system is available, and, for any reason, you are unable to submit your application electronically or you do not receive an automatic acknowledgement of your submission, you may submit your application in paper format by mail or hand delivery in accordance with the instructions in this notice.

b. Submission of Paper Applications by Mail.

If you submit your application in paper format by mail (through the U.S. Postal Service or a commercial carrier), you must mail the original and two copies of your application, on or before the application deadline date, to the Department at the applicable following address:

By Mail through the U.S. Postal Service: U.S. Department of Education, Application Control Center, Attention: (CFDA Number 84.215F), 400 Maryland Avenue, SW., Washington, DC 20202-4260.

or

By mail through a commercial carrier: U.S. Department of Education, Application Control Center—Stop 4260, Attention: (CFDA Number 84.215F), 7100 Old Landover Road, Landover, MD 20785-1506.

Regardless of which address you use, you must show proof of mailing consistent with one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.215F), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department:

(1) You must indicate on the envelope and—if not provided by the Department—in Item 4 of the ED 424 the CFDA number—and suffix letter, if any—of the competition under which you are submitting your application.

(2) The Application Control Center will mail a grant application receipt acknowledgment to you. If you do not receive the grant application receipt acknowledgment within 15 business days from the application deadline date, you should call the Department's Application Control Center at (202) 245-6288.

V. Application Review Information

1. Selection Criteria: The selection criteria for this competition are from 75.210 of EDGAR and are listed in the application package.

2. Review and Selection Process: An additional factors we consider in selecting an application for an award is equitable distribution among LEAs and CBOs serving urban and rural areas.

VI. Award Administration Information

1. Award Notices: If your application is successful, we notify your U.S. Representative and U.S. Senators, and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: There are reporting requirements under this program, including under section 5505(a) of the ESEA and 34 CFR 75.590 and 75.720. In accordance with section 5505(a) of the ESEA, grantees under this program are required to submit an annual report that—(1) Describes the activities conducted during the preceding year; and (2) Demonstrates that progress has been made toward meeting State standards for physical education. In accordance with 34 CFR 75.590, grantees also must submit an annual performance report that evaluates:

(a) Progress in achieving the objectives in the approved application;

(b) The effectiveness of the project in meeting the purposes of the program;

(c) The effect of the project on participants served by the project.

This annual report must also address progress toward meeting the performance and efficiency measures established by the Secretary for this program and described in the next section of this notice.

At the end of the project period, a final performance and financial report must be submitted as specified by the Secretary in 34 CFR 75.720.

4. Performance and Efficiency Measures: The Secretary has established the following performance and efficiency measures for collecting data to use in assessing the effectiveness of PEP.

(a) Physical Activity Measures (Performance):

(i) The percentage of students served by the grant who engage in 150 minutes of moderate to vigorous physical activity per week (elementary school students); and/or

(ii) The percentage of students served by the grant who engage in 225 minutes of moderate to vigorous physical activity per week (middle and high school students).

(b) Cost Per Outcome Measure (Efficiency):

The cost (based on the amount of the grant award) per student who achieves the level of physical activity required to meet the physical activity measure above (150 minutes of moderate to vigorous physical activity per week for elementary school students, and/or 225 minutes of moderate to vigorous physical activity per week for middle and high school students).

These measures constitute the Department's indicators of success for this program. Consequently, applicants for a grant under this program are advised to give careful consideration to these measures in formulating their approach and evaluation of their proposed project. If funded, applicants will be asked to collect and report data in their annual and final performance reports about progress toward these measures.

Additional information concerning these measures is available in the application package for this competition.

VII. Agency Contacts

For Further Information Contact: Monica Woods or Lisa Clayton, U.S. Department of Education, 400 Maryland Avenue, SW., Room 3E332, Washington, DC 20202-6450. Telephone: 202-260-3954 or by e-mail: Monica.Woods@ed.gov or Lisa.Clayton@ed.gov.

If you use a telecommunications device for the deaf (TDD), you may call the Federal Relay Service (FRS) at 800-877-8339.

Individuals with disabilities may obtain this document in an alternative format (e.g., Braille, large print, audiotape, or computer diskette) on request to the program contact persons listed in this section.

VIII. Other Information

Electronic Access to This Document: You may view this document, as well as all other documents of this Department published in the Federal Register, in text or Adobe Portable Document format (PDF) on the Internet at the following site: http://www.ed.gov/news/fedregister.

To use PDF you must have Adobe Acrobat Reader, which is available free at this site. If you have questions about using PDF, call the U.S. Government Printing Office (GPO), toll free, at 1-888-293-6498; or in the Washington, DC area at 202-512-1530.

Note: The official version of this document is the document published in the Federal Register. Free Internet access to the official edition of the Federal Register and the Code of Federal Regulations is available on GPO Access at: http://www.gpoaccess.gov/nara/index.html.

Dated: February 23, 2006.
Deborah A. Price,
Assistant Deputy Secretary for Safe and Drug-Free Schools.

[FR Doc. E6-2832 Filed 2-28-06; 8:45 am]

BILLING CODE 4001-01-P